DEPARTMENT OF AGRICULTURE

Forest Service

Missoula County Resource Advisory Committee

AGENCY: Forest Service, USDA.

ACTION: Notice of meeting.

SUMMARY: The Lolo National Forest's Missoula County Resource Advisory Committee (RAC) will meet on Wednesday, September 15, 2010 from 4:15 p.m. to 6 p.m., in Missoula, Montana. The purpose of the meeting is to distribute submitted proposals to RAC members, allow the opportunity for project proponents to present their proposals, and receive public comment on the meeting subjects and proceedings.

DATES: Wednesday, September 15, 2010 from 4:15 p.m. to 6 p.m.

ADDRESSES: Missoula County Courthouse, Room 374; 200 W. Broadway, Missoula, MT 59802.

FOR FURTHER INFORMATION CONTACT: Boyd Hartwig; Address: Lolo National Forest, Building 24A Fort Missoula, Missoula, Montana 59804; Phone: 406-329-1024, e-mail: bchartwig@fs.fed.us.

SUPPLEMENTARY INFORMATION: Agenda items to be covered include: (1) Distribution and brief discussion of project proposals; (2) provide opportunity for proponents to give up to a 10 minute presentation for each project; (3) give RAC members the opportunity to ask questions of the proponents; (4) set next meeting purpose, location and date; (5) receive public comment; (6) review old business. The meeting is open to the public. Opportunity for public input will be provided and individuals will have the opportunity to address the Committee at that time.

Dated: July 30, 2010.
Paul Matter,
Missoula District Ranger.

[FR Doc. 2010-19204 Filed 8-4-10; 8:45 am]

BILLING CODE 3410-11-P